ENVIRONMENTAL PROTECTION AGENCY

[EPA-HQ-OA-2006-0248; FRL-8199-8]

Review of Environmental Protection Agency Draft Guidance for Implementing Executive Order 13175, Consultation and Coordination With Indian Tribal Governments; Extension of Comment Period

AGENCY: Environmental Protection Agency (EPA).

ACTION: Notice; extension of comment period.

SUMMARY: On April 19, 2006, EPA released for public comment, its draft Guidance, Executive Order 13175: Consultation and Coordination with Indian Tribal Governments (“Guidance”) in the Federal Register. The draft Guidance addresses the provisions of Executive Order 13175 (“EO 13175”) and how EPA generally intends to implement EO 13175 in connection with relevant EPA activities. This notice announces a 60 day extension of the comment period for the draft Guidance, Executive Order 13175: Consultation and Coordination with Indian Tribal Governments (“Guidance”). This extension is necessary to accommodate requests that we provide the public more time to review and comment on the materials.

DATES: The comment period previously expiring on July 19, 2006, is extended to September 19, 2006.

ADDRESSES: For detailed instructions on the submission of comments, follow the instructions provided under ADDRESSES in the Federal Register document of April 19, 2006.

FOR FURTHER INFORMATION CONTACT: Joan Crawford, Office of Policy, Economics and Innovation, Mail Code 1803A, Environmental Protection Agency, 1200 Pennsylvania Avenue, NW., Washington, DC 20460; telephone number: (202) 564-6568; fax number: (202) 564-0965, e-mail: crawford.joan@epa.gov or Jose Aguto, American Indian Environmental Office, Mailcode 4104, Environmental Protection Agency, 1200 Pennsylvania Avenue, NW., Washington, DC 20460; telephone number: (202) 564-0289; fax number: (202) 564-0298, e-mail: aguto.jose@epa.gov.

SUPPLEMENTARY INFORMATION:

General Information

I. Does This Action Apply to Me?

The Agency included in the draft Guidance document who may be potentially affected by this action. If you have questions regarding the applicability of this action to a particular entity, consult the person listed under FOR FURTHER INFORMATION CONTACT.

II. What Action Is the Agency Taking?

In the Federal Register of April 19, 2006 (71 FR 20313) (FRL-8159-9), EPA released for public comment, its draft Guidance, Executive Order 13175: Consultation and Coordination with Indian Tribal Governments (“Guidance”) in the Federal Register. The draft Guidance addresses the provisions of Executive Order 13175 (“EO 13175”) and how EPA generally intends to implement EO 13175 in connection with relevant EPA activities. EPA has received requests for an extension of the comment period from Lone Pine Paiute-Shoshone Reservation, the Hualapai Nation, and United South and Eastern Tribes, Incorporated. To allow additional time for comment EPA is extending the comment period established in the Federal Register issued on April 19, 2006 (71 FR 20313) for an additional 60 days. As extended, the comment period for this draft Guidance expires September 19, 2006. Prior to this extension, the comment period was scheduled to expire July 19, 2006.

III. Do Any Statutory and Executive Order Reviews Apply to This Action?

No. This action is not a rulemaking, it merely extends the date by which public comments must be submitted on a draft Guidance document that EPA published in the Federal Register of April 19, 2006 (71 FR 20313).

Comments received within the 60 day extension period designated in this notice will be taken under consideration as the EPA workgroup continues drafting the Guidance and the key attachments to the Guidance.

Dated: July 14, 2006.
Brian F. Mannix,
Associate Administrator, Office of Policy, Economics and Innovation.

[FR Doc. E6-11448 Filed 7-18-06; 8:45 am]

BILLING CODE 6560-50-P